DEPARTMENT OF THE INTERIOR

Bureau of Land Management

[UT-923-1320-EL-25-2W]

Notice of Availability of Record of Decision.

AGENCY: Bureau of Land Management, Interior.

ACTION: Notice of availability of Record of Decision, Flat Canyon Coal Tract.

SUMMARY: U.S. Department of Interior, Bureau of Land (BLM), Utah State Office, P.O. Box 45155, Salt Lake City, Utah 84145-0155. Notice is hereby given that the BLM has completed a Record of Decision (ROD) and has decided to offer a Federal coal lease tract known as “The Flat Canyon Coal Tract” through a competitive process. The potential impacts of this decision were analyzed in a Final Environmental Impact Statement on the Pines Tract Project, which was released on January 03, 2002 by the United States Forest Service, Manti-La Sal National Forest. The lease area is located in the Manti-LaSal National Forest in Sanpete County, Utah, approximately 10 miles South West of Scofield, Utah. According to 43 CFR 3400.3-1 BLM may issue a Federal Coal lease with the consent of the National Forest with appropriate terms and conditions on the lease. BLM will issue the lease in accordance with the consent decision by the Manti-La Sal National Forest. A copy of the BLM ROD can be obtained at the BLM Utah State Office, and at the BLM Price Field Office, 125 South 600 West, Price, Utah 84501.

Dated: April 16, 2002.
Roy Turner,
Acting State Director.

[FR Doc. 02-12950 Filed 5-22-02; 8:45 am]

BILLING CODE 4310-$$-P